DEPARTMENT OF HEALTH AND HUMAN SERVICES

Centers for Disease Control and Prevention

World Trade Center Health Program Scientific/Technical Advisory Committee (WTCHP STAC or Advisory Committee), National Institute for Occupational Safety and Health (NIOSH)

In accordance with section 10(a)(2) of the Federal Advisory Committee Act (Pub. L. 92-463), the Centers for Disease Control and Prevention (CDC), announces the following meetings of the aforementioned committee:

Committee Public Meeting Times and Dates: (All times are Eastern Standard Time.)

12 p.m.-5 p.m., February 15, 2012. 8:30 a.m.-2 p.m., February 16, 2012.

Public Comment Times and Dates: (All times are Eastern Standard Time.)

3:45 p.m.-4:45 p.m., on February 15, 2012. 8:45 a.m.-9:45 a.m., on February 16, 2012.

Place: Jacob J. Javits Federal Building, 26 Federal Plaza, New York, New York 10278. This meeting is also available by teleconference. Please dial 1-800-593-0693 and enter code 37121.

Status: Open to the public, limited by the capacity of the room, which is about 70 persons, and the number of telephone lines. The conference line will accommodate up to 300 callers; therefore it is suggested that those interested in calling in to listen to the committee meeting share a line when possible.

Please note that the public comment periods end at the times indicated above or following the last call for comments, whichever is earlier. Members of the public who want to comment must sign up. A limited number of time slots are available and will be assigned on a first come-first served basis. Each commenter will be provided up to five minutes for comment. You can sign up before the meeting by mail, facsimile, email, or telephone until all slots are filled. When you sign up you must indicate if you will be making your comments by telephone or in person. Advance sign up will conclude at 5 p.m. on February 13, 2012. If time slots are still available, you will be able to sign up at the meeting beginning at 11 a.m. on February 15 for the public comment period that day, or beginning at 8 a.m. on February 16, for the public comment period that day. To sign up in advance of the meeting, use the contact information that follows.

Mail: NIOSH Docket Office, Robert A. Taft Laboratories, MS-C-34, 4676 Columbia Parkway, Cincinnati, Ohio 45226.

Facsimile: (513) 533-8285.

Email: nioshdocket@cdc.gov.

Telephone: (513) 533-8611.

Written comments will also be accepted (see below).

Security Considerations: Due to mandatory security clearance procedures at the Jacob K. Javits Federal Building, in-person attendees must present valid government-issued picture identification to security personnel upon entering the building and go through an airport-type security check. Non-U.S. citizens are encouraged to participate in the audio conferencing due to the extra clearance involved with in-person attendance. To attend in person, a non-U.S. citizen will have to call or send an email to the contact person in this Notice before February 1, 2012, and provide passport information. You will be notified if clearance to attend the meeting in person is received; otherwise, you will not be able to attend the meeting in person.

Background: The Advisory Committee was established by Public Law 111-347 (The James Zadroga 9/11 Health and Compensation Act of 2010, Title XXXIII of the Public Health Service Act), enacted on January 2, 2011 and codified at 42 U.S.C. 300mm-300mm-61.

Purpose: The purpose of the Advisory Committee is to review scientific and medical evidence and to make recommendations to the World Trade Center (WTC) Program Administrator regarding additional WTC Health Program eligibility criteria and potential additions to the list of covered WTC-related health conditions. Title XXXIII of the Public Health Service Act established within the Department of Health and Human Services (HHS), the World Trade Center (WTC) Health Program, to be administered by the WTC Program Administrator. The WTC Health Program provides: (1) Medical monitoring and treatment benefits to eligible emergency responders and recovery and cleanup workers (including those who are Federal employees) who responded to the September 11, 2001, terrorist attacks, and (2) initial health evaluation, monitoring, and treatment benefits to residents and other building occupants and area workers in New York City, who were directly impacted and adversely affected by such attacks (“survivors”). Certain specific activities of the WTC Program Administrator are reserved to the Secretary, HHS, to delegate at her discretion; other WTC Program Administrator duties not explicitly reserved to the Secretary, HHS, are assigned to the Director, NIOSH. The administration of the Advisory Committee established under Section 300mm-1(a) is left to the Director of NIOSH in his role as WTC Program Administrator. CDC and NIOSH provide funding, staffing, and administrative support services for the Advisory Committee. The charter was issued on May 12, 2011, and will expire on May 12, 2013.

Matters To Be Discussed: The agenda for the Advisory Committee meeting includes: discussion of the petition to add cancer to the list of covered WTC-related health conditions, research needs of the WTC Health Program, and WTC Health Program enrollment eligibility criteria for individuals who were members of a fire or police department (whether fire or emergency personnel, active or retired), worked for a recovery or cleanup contractor, or were a volunteer; and performed rescue, recovery, demolition, debris cleanup, or other related services at the Pentagon site or the Shanksville, Pennsylvania, site of the terrorist-related aircraft crashes of September 11, 2001. The agenda is subject to change as priorities dictate.

Submissions to the Docket: Written comments may be submitted. The comments should be limited to two pages and submitted to the contact person below by February 9, 2012. Efforts will be made to provide the two-page written comments received by the deadline below to the committee members before the meeting. Comments in excess of two pages will be made publicly available at the NIOSH docket (http://www.cdc.gov/niosh/docket/archive/docket248.html).

To provide written comments or to submit comments to the docket, send information to the NIOSH Docket Office by one of the following means:

Mail: NIOSH Docket Office, Robert A. Taft Laboratories, MS-C-34, 4676 Columbia Parkway, Cincinnati, Ohio 45226.

Facsimile: (513) 533-8285.

Email: nioshdocket@cdc.gov.

Telephone: (513) 533-8611.

Submissions to the docket should reference docket #248.

Policy on Redaction of Committee Meeting Transcripts (Public Comment): Transcripts will be prepared and posted to NIOSH Docket 248 within 60 days after the meeting. If a person making a comment gives his or her name, no attempt will be made to redact that name. NIOSH will take reasonable steps to ensure that individuals making public comments are aware of the fact that their comments (including their name, if provided) will appear in a transcript of the meeting posted on a public Web site. Such reasonable steps include: (a) A statement read at the start of the meeting stating that transcripts will be posted and names of speakers will not be redacted; and (b) A printed copy of the statement mentioned in (a) above will be displayed on the table where individuals sign up to make public comments. If individuals in making a statement reveal personal information (e.g., medical information) about themselves, that information will not usually be redacted. The CDC Freedom of Information Act coordinator will, however, review such revelations in accordance with the Freedom of Information Act and if deemed appropriate, will redact such information. Disclosures of information concerning third party medical information will be redacted.

Contact Person for More Information: Paul J. Middendorf, Ph.D., Designated Federal Official, NIOSH, CDC, 4676 Columbia Parkway, MailStop R-45, Cincinnati, Ohio 45226, Telephone: 1-(888) 982-4748; email: wtc-stac@cdc.gov.

The Director, Management Analysis and Services Office, has been delegated the authority to sign Federal Register Notices pertaining to announcements of meetings and other committee management activities, for both the Centers for Disease Control and Prevention and the Agency for Toxic Substances and Disease Registry.

Dated: January 25, 2012.
Elaine L. Baker,
Director, Management Analysis and Services Office, Centers for Disease Control and Prevention.

[FR Doc. 2012-2002 Filed 1-30-12; 8:45 am]

BILLING CODE 4163-18-P